DEPARTMENT OF COMMERCE

International Trade Administration

[C-580-851]

Dynamic Random Access Memory Semiconductors from the Republic of Korea: Extension of Time Limit for Preliminary Determination of Countervailing Duty Investigation

AGENCY: Import Administration, International Trade Administration, Department of Commerce.

ACTION: Notice of extension of time limit for preliminary determination of countervailing duty investigation.

SUMMARY: The Department of Commerce is extending the time limit for the preliminary determination in the countervailing duty investigation of dynamic random access memory semiconductors from the Republic of Korea from January 27, 2003 until no later than March 31, 2003. This extension is made pursuant to section 703(c)(1)(B) of the Tariff Act of 1930, as amended by the Uruguay Round Agreements Act.

EFFECTIVE DATE: January 13, 2003.

FOR FURTHER INFORMATION CONTACT: Suresh Maniam or Ryan Langan at (202) 482-0176 or (202) 482-2613, respectively; Import Administration, U.S. Department of Commerce, 14th Street and Constitution Avenue, N.W., Washington, D.C. 20230.

SUPPLEMENTARY INFORMATION:

Extension of Due Date for Preliminary Determinations

On November 27, 2002, the Department of Commerce (“the Department”) initiated the countervailing duty investigation of dynamic random access memory semiconductors from the Republic of Korea. See Notice of Initiation of Countervailing Duty Investigation: Dynamic Random Access Memory Semiconductors from the Republic of Korea, 67 FR 70927 (November 27, 2002). Currently, the preliminary determination is due no later than January 27, 2003. However, pursuant to section 703(c)(1)(B) of the Act, we have determined that this investigation is “extraordinarily complicated” and are, therefore, extending the due date for the preliminary determination to no later than March 31, 2003.

Under section 703(c)(1)(B), the Department can extend the period for reaching a preliminary determination until not later than the 130th day after the date on which the administering authority initiates an investigation if:

(B) the administering authority concludes that the parties concerned are cooperating and determines that

(i) the case is extraordinarily complicated by reason of

(I) the number and complexity of the alleged countervailable subsidy practices;

(II) the novelty of the issues presented;

(III) the need to determine the extent to which particular countervailable subsidies are used by individual manufacturers, producers, and exporters; or

(IV) the number of firms whose activities must be investigated; and

(ii) additional time is necessary to make the preliminary determination.

In this investigation, we find that all concerned parties are cooperating. We also find that this investigation is extraordinarily complicated due to the number and complexity of the alleged countervailable subsidy practices. We note that it is the Department's position that the appropriate criterion for analysis is not the number of programs in question, but rather the specific transactions (e.g., equity infusions, debt-to-equity conversions, etc.) applied under those programs, which are numerous and appropriately categorized as “practices.” In this investigation, the Department will examine 35 programs, many of which have never before been investigated. These allegations present novel issues, including equity infusions, debt forgiveness, bailouts involving new loans and multiple loan refinancings of existing loans. Moreover, the investigation presents the significant general issue of Korean directed credit and, more specifically, whether this directed credit is specific to the semiconductor industry. These issues will require a significant amount of information and complex analysis. The Department must also determine the extent to which the particular countervailable subsidies are used by the individual respondent producers/exporters.

Accordingly, we deem this investigation to be extraordinarily complicated and determine that additional time is necessary to make the preliminary determination. Therefore, pursuant to section 703(c)(1)(B) of the Act, we are postponing the preliminary determination in this investigation until no later than March 31, 2003.

This notice is published pursuant to section 703(c)(2) of the Act.

Dated: January 6, 2003.
Faryar Shirzad,
Assistant Secretary for Import Administration.

[FR Doc. 03-632 Filed 1-10-03; 8:45 am]

BILLING CODE 3510-DS-S